SECURITIES AND EXCHANGE COMMISSION

[File No. 500-1]

In the Matter of Cascade Technologies Corp., Echo Automotive, Inc., and Vision Industries Corp.; Order of Suspension of Trading

It appears to the Securities and Exchange Commission (“Commission”) that there is a lack of current and accurate information concerning the securities of Cascade Technologies Corp. (“CSDT ¹”) (CIK No. 1324344), a Wyoming corporation located in Beverly Hills, California with a class of securities registered with the Commission pursuant to Securities Exchange Act of 1934 (“Exchange Act”) Section 12(g) because it is delinquent in its periodic filings with the Commission, having not filed any periodic reports since it filed a Form 10-Q for the period ended September 30, 2012. On April 15, 2014, the Commission's Division of Corporation Finance (“Corporation Finance”) sent a delinquency letter to CSDT requesting compliance with its periodic filing requirements which was delivered. As of June 8, 2016, the common shares of CSDT were quoted on OTC Link operated by OTC Markets Group Inc. (formerly “Pink Sheets”) (“OTC Link”), had seven market makers, and were eligible for the “piggyback” exception of Exchange Act Rule 15c2-11(f)(3).

¹ The short form of each issuer's name is also its stock symbol.

It appears to the Commission that there is a lack of current and accurate information concerning the securities of Echo Automotive, Inc. (“ECAU”) (CIK No. 1453420), a revoked Nevada corporation located in Scottsdale, Arizona with a class of securities registered with the Commission pursuant to Exchange Act Section 12(g) because it is delinquent in its periodic filings with the Commission, having not filed any periodic reports since it filed a Form 10-Q for the period ended March 31, 2014. On November 30, 2015, Corporation Finance sent a delinquency letter to ECAU requesting compliance with its periodic filing requirements but ECAU did not receive the delinquency letter due to its failure to maintain a valid address on file with the Commission as required by Commission rules (Rule 301 of Regulation S-T, 17 CFR 232.301 and Section 5.4 of EDGAR Filer Manual) (“Commission Issuer Address Rules”). As of June 8, 2016, the common stock of ECAU was quoted on OTC Link, had five market makers, and was eligible for the “piggyback” exception of Exchange Act Rule 15c2-11(f)(3).

It appears to the Commission that there is a lack of current and accurate information concerning the securities of Vision Industries Corp. (“VIICQ”) (CIK No. 1405424), a dissolved Florida corporation located in Long Beach, California with a class of securities registered with the Commission pursuant to Exchange Act Section 12(g) because it is delinquent in its periodic filings with the Commission, having not filed any periodic reports since it filed a Form 10-Q for the period ended June 30, 2014. On September 15, 2015, Corporation Finance sent a delinquency letter to VIICQ requesting compliance with its periodic filing requirements but VIICQ did not receive the delinquency letter due to its failure to maintain a valid address on file with the Commission as required by Commission Issuer Address Rules. As of June 8, 2016, the common stock of VIICQ was quoted on OTC Link, had eight market makers, and was eligible for the “piggyback” exception of Exchange Act Rule 15c2-11(f)(3).

The Commission is of the opinion that the public interest and the protection of investors require a suspension of trading in the securities of the above-listed companies. Therefore, it is ordered, pursuant to Section 12(k) of the Securities Exchange Act of 1934, that trading in the securities of the above-listed companies is suspended for the period from 9:30 a.m. EDT on June 15, 2016, through 11:59 p.m. EDT on June 28, 2016.

By the Commission.
Jill M. Peterson,
Assistant Secretary.

[FR Doc. 2016-14473 Filed 6-15-16; 4:15 pm]

BILLING CODE 8011-01-P